DEPARTMENT OF HEALTH AND HUMAN SERVICES

Health Resources and Services Administration

Agency Information Collection Activities: Proposed Collection; Comment Request

In compliance with the requirement for the opportunity for public comment on proposed data collection projects (section 3506(c)(2)(A) of Title 44, United States Code, as amended by the Paperwork Reduction Act of 1995, Public Law 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer at (301) 443-1129.

Comments are invited on: (a) Whether the proposed collection of information is necessary for the proper performance of the functions of the grantee, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Ryan White CARE Act Title I Minority AIDS Initiative (MAI) Report: NEW (Title I MAI Report)

The HRSA HIV/AIDS Bureau (HAB) administers the Title I CARE Act Program (codified under Title XXVI of the Public Health Service Act). The Title I Minority AIDS Initiative (MAI) supplement is a component of the CARE Act Title I Program to “address substantial need for care and support services for minority populations in eligible metropolitan areas (EMA).” The overall goal of the MAI is to improve HIV/AIDS-related health outcomes for communities of color by allowing communities to: (1) Expand local service capacity primarily through community-based organizations serving racial and ethnic minorities; (2) improve service delivery; and (3) support the development of new and innovative programs designed to reduce HIV/AIDS-related health disparities.

The Title I MAI Report is designed to collect performance data from Title I MAI grantees, and has the following components: (1) The Title I MAI Report Plan (Plan) and (2) the Title I MAI Annual Report (Report). The Plan and Report components will be linked to minimize the reporting burden, and designed to include check box responses, fields for reporting budget, expenditure and client data, and open-ended text boxes for describing client or service-level outcomes. Together, they will collect information from grantees on MAI-funded services, the number and demographics of clients served, and client-level outcomes. This information is needed to monitor and assess: (1) Increases and changes in the type and amount of HIV/AIDS health care and related services being provided to each disproportionately impacted community of color; (2) increases in the number of persons receiving HIV/AIDS services within each racial and ethnic community; and (3) the impact of Title I MAI-funded services in terms of client-level and service-level health outcomes. This information also will be used to plan new technical assistance and capacity development activities, and inform HAB policy and program management functions.

The Title I MAI Report form and instructions will be available for all grantees to download from the HRSA/HAB Web site. All grantees will submit completed data forms through a link on the HRSA/HAB Web site. Grantees may submit a hard copy form to the HRSA Call Center. The Title I MAI Report will be designed to include check box responses, numeric responses, and open-ended questions. All Title I grantees receiving MAI funds from HAB will be required to submit their service providers' data in an aggregate form by service category utilizing one Title I MAI Report.

The estimated response burden for grantees is as follows:

Form | Estimated number of respondents | Responses per respondent | Hours per response | Total burden hours
Title I MAI Report | 51 | 2 | 6 | 612

Send comments to Susan G. Queen, Ph.D., HRSA Reports Clearance Officer, Room 10-33, Parklawn Building, 5600 Fishers Lane, Rockville, MD 20857. Written comments should be received within 60 days of this notice.

Dated: March 23, 2006.
Tina M. Cheatham,
Director, Division of Policy Review and Coordination.

[FR Doc. E6-4608 Filed 3-29-06; 8:45 am]

BILLING CODE 4165-15-P